FEDERAL RETIREMENT THRIFT INVESTMENT BOARD

Sunshine Act Meeting

TIME AND DATE: 11:30 a.m. (EST), November 13, 2001.

PLACE: 4th Floor, Conference Room 4506, 1250 H Street, NW., Washington, DC.

STATUS: Open.

MATTERS TO BE CONSIDERED: 1. Approval of the minutes of the October 9, 2001, Board member meeting.

2. Thrift Savings Plan activity report by the Executive Director.

3. Review of KPMG LLP audit reports:

(a) Policies and Procedures of the Federal Retirement Thrift Investment Board Administrative Staff

(b) Thrift Savings Plan F, C, S, and I Fund Investment Management Operations at Barclays Global Investors, N.A.

4. Semiannual review of status of audit recommendations.

5. Quarterly investment policy review.

6. Annual ethics briefing.

CONTACT PERSON FOR MORE INFORMATION: Thomas J. Trabucco, Director, Office of External Affairs, (202) 942-1640.

Dated: October 29, 2001.
Elizabeth S. Woodruff,
Secretary to the Board, Federal Retirement Thrift Investment Board.

[FR Doc. 01-27446 Filed 10-29-01; 12:17 pm]

BILLING CODE 6760-01-M